DEPARTMENT OF STATE

[Public Notice 5091]

30-Day Notice of Proposed Information Collection: Form DS-3057, Medical Clearance Update, OMB 1405-0131

ACTION: Notice of request for public comments.

SUMMARY: The Department of State has submitted the following information collection request to the Office of Management and Budget (OMB) for approval in accordance with the Paperwork Reduction Act of 1995.

Title of Information Collection: Medical Clearance Update.

OMB Control Number: 1405-0131.

Type of Request: Extension of Currently Approved Collection.

Originating Office: Office of Medical Services, M/MED/EX.

Form Number: DS-3057.

Respondents: Foreign Service Officers, Federal Government Employees and family members.

Estimated Number of Respondents: 9,800.

Estimated Number of Responses: 9,800.

Average Hours Per Response: 30 minutes.

Total Estimated Burden: 4,900.

Frequency: On occasion.

Obligation to Respond: Required to Obtain or Retain a Benefit.

DATES: Submit comments to the Office of Management and Budget (OMB) for up to 30 days from June 27, 2005.

ADDRESSES: Direct comments and questions to Katherine Astrich, the Department of State Desk Officer in the Office of Information and Regulatory Affairs at the Office of Management and Budget (OMB), who may be reached at 202-395-4718. You may submit comments by any of the following methods:

E-mail: Katherine_T._Astrich@omb.eop.gov. You must include the DS form number, information collection title, and OMB control number in the subject line of your message.

Mail (paper, disk, or CD-ROM submissions): Office of Foreign Missions, U.S. Department of State, 2201 C Street, NW., Washington, DC 20520.

Fax: 202-395-6974.

FOR FURTHER INFORMATION CONTACT: Direct requests for additional information regarding the collection listed in this notice, including requests for copies of the proposed information collection and supporting documents, to Susan Willig, Department of State, Office of Medical Services, SA-1 Room L101, 2401 E St., NW., Washington, DC 20052-0101, telephone 202-663-1754, or willigsp@state.gov.

SUPPLEMENTARY INFORMATION: We are soliciting public comments to permit the Department to:

Evaluate whether the proposed information collection is necessary for the proper performance of our functions.

Evaluate the accuracy of our estimate of the burden of the proposed collection, including the validity of the methodology and assumptions used.

Enhance the quality, utility, and clarity of the information to be collected.

Minimize the reporting burden on those who are to respond, including the use of automated collection techniques or other forms of technology.

Abstract of proposed collection: Form DS-3057 is designed to collect medical information for the Office of Medical Services to decide whether a federal employee and family members will have sufficient medical resources at a diplomatic mission abroad to maintain health and fitness.

Methodology: The information collected will be collected through the use of an electronic forms engine or by hand written submission using a pre-printed form.

Dated: April 28, 2005.
Maria C. Melchiorre,
Administrative Officer, Office of Medical Services, Department of State.

[FR Doc. 05-10653 Filed 5-26-05; 8:45 am]

BILLING CODE 4710-36-P